DEPARTMENT OF LABOR

Employment and Training Administration

[TA-W-50,493]

Moltech Power Systems, a Subsidiary Of Moltech Holding Corp., Including Leased Workers of Gevity Hr, Gainesville, Florida; Amended Certification Regarding Eligibility To Apply for Worker Adjustment Assistance

In accordance with section 223 of the Trade Act of 1974 (19 U.S.C. 2273) the Department of Labor issued a Certification of Eligibility To Apply for Worker Adjustment Assistance on January 27, 2003, applicable to workers of Moltech Power Systems, a subdivision of Moltech Holding Corporation, Gainesville, Florida. The notice was published in the Federal Register on February 24, 2003 (68 FR 8620).

At the request of the State agency, the Department reviewed the certification for workers of the subject firm. The workers were engaged in the production of NiCd and NiMh rechargeable batteries.

Information provided by the company shows that all workers of the Gainesville, Florida location of the subject firm are leased workers of Gevity hr.

Information also shows that workers separated from employment at the subject firm had their wages reported under a separate unemployment insurance (UI) tax account for Gevity hr employed at Moltech Power Systems, a subsidiary of Moltech Holding Corporation at the Gainesville, Florida location of the subject firm.

Based on these findings, the Department is amending this certification to include leased workers of Gevity hr working at Moltech power Systems, a subsidiary of Moltech Holding Corporation, Gainesville, Florida.

The intent of the Department's certification is to include all workers of Moltech Power Systems, a subsidiary of Moltech Holding Corporation who were adversely affected by increased imports.

The amended notice applicable to TA-W-50,493 is hereby issued as follows:

All workers of Moltech Power Systems, a subsidiary of Moltech Holding Corporation, including leased workers of Gevity hr, Gainesville, Florida, who became totally or partially separated from employment on or after December 12, 2002, through January 27, 2005, are eligible to apply for adjustment assistance under section 223 of the Trade Act of 1974.

Signed at Washington, DC, this 15th day of January, 2004.
Linda G. Poole,
Certifying Officer, Division of Trade Adjustment Assistance.

[FR Doc. E4-141 Filed 1-27-04; 8:45 am]

BILLING CODE 4510-13-P